DEPARTMENT OF ENERGY

Federal Energy Regulatory Commission

Combined Notice of Filings #1

March 11, 2009.

Take notice that the Commission received the following electric rate filings:

Docket Numbers: ER98-4159-016; ER07-157-006; ER06-399-010; ER06-398-010; ER04-268-013.

Applicants: Macquarie Cook Power Inc., Duquesne Light Company, Duquesne Power, LP, Duquesne Keystone, LLC, Duquesne Conemaugh, LLC.

Description: Notice of Change in Status of Duquesne Light Company.

Filed Date: 03/09/2009.

Accession Number: 20090309-5141.

Comment Date: 5 p.m. Eastern Time on Monday, March 30, 2009.

Docket Numbers: ER99-845-016.

Applicants: Puget Sound Energy, Inc.

Description: Notice of Change in Status re Puget Sound Energy, Inc.

Filed Date: 03/09/2009.

Accession Number: 20090309-5139.

Comment Date: 5 p.m. Eastern Time on Monday, March 30, 2009.

Docket Numbers: ER01-989-007.

Applicants: Green Mountain Power Corporation.

Description: Supplement to Non-Material Change-in-Status Report of Green Mountain Power Corporation.

Filed Date: 03/09/2009.

Accession Number: 20090309-5144.

Comment Date: 5 p.m. Eastern Time on Thursday, March 19, 2009.

Docket Numbers: ER05-1489-002.

Applicants: Craven County Wood Energy Limited Partnership.

Description: Craven County Wood Energy Limited Partnership submits request for Category 1 Seller classification pursuant to order No 697 and 697A.

Filed Date: 03/09/2009.

Accession Number: 20090310-0074.

Comment Date: 5 p.m. Eastern Time on Monday, March 30, 2009.

Docket Numbers: ER06-1265-002; ER02-1336-005.

Applicants: Orlando Cogen Ltd LP, Vandolah Power Company, LLC.

Description: Orlando CoGen Limited, LP et al. submits revised market based rate tariffs.

Filed Date: 03/06/2009.

Accession Number: 20090310-0053.

Comment Date: 5 p.m. Eastern Time on Friday, March 27, 2009.

Docket Numbers: ER07-1105-005.

Applicants: Cedar Creek Wind Energy, LLC.

Description: Cedar Creek Wind Energy, LLC informs FERC that on the 7/30/08 they submitted notification of a non-material change in facts with respect to its market-based rate authority etc.

Filed Date: 02/18/2009.

Accession Number: 20090220-0071.

Comment Date: 5 p.m. Eastern Time on Wednesday, March 25, 2009.

Docket Numbers: ER07-1356-007; ER05-1232-015; ER07-1115-006; ER07-1118-006; ER07-1120-006; ER07-1122-006; ER08-148-006; ER09-335-001.

Applicants: BE Alabama LLC; J.P. Morgan Ventures Energy Corporation; BE Colquitt LLC; BE Rayle LLC; BE Satilla LLC; BE Walton LLC; Central Power & Lime, Inc.; J.P. Morgan Ventures Energy Corporation.

Description: JP Morgan Companies submits Further Supplement to Updated Market Power Analysis.

Filed Date: 03/03/2009.

Accession Number: 20090306-0010.

Comment Date: 5 p.m. Eastern Time on Tuesday, March 24, 2009.

Docket Numbers: ER09-498-002.

Applicants: Vickers Power, LLC.

Description: Vickers Power, LLC submits application for market based authorization, request for waivers expedited action, and blanket approval.

Filed Date: 03/09/2009.

Accession Number: 20090310-0073.

Comment Date: 5 p.m. Eastern Time on Monday, March 30, 2009.

Docket Numbers: ER09-537-001.

Applicants: Massachusetts Electric Company.

Description: Massachusetts Electric Company submits Attachment A et al. to FERC Electric Tariff, First Revised Volume No 1.

Filed Date: 03/06/2009.

Accession Number: 20090309-0160.

Comment Date: 5 p.m. Eastern Time on Friday, March 27, 2009.

Docket Numbers: ER09-606-001.

Applicants: Duke Energy Carolinas, LLC.

Description: Duke Energy Carolinas. LLC submits substitute Transmission Service Agreement for Network Integration Transmission Service between itself and the Town of Dallas.

Filed Date: 03/06/2009.

Accession Number: 20090309-0162.

Comment Date: 5 p.m. Eastern Time on Friday, March 27, 2009.

Docket Numbers: ER09-629-001.

Applicants: Dynegy Marketing and Trade, LLC.

Description: Dynegy Marketing and Trade, LLC submits amended tariff sheet to correct a pagination error that was included in its 1/30/09 filing.

Filed Date: 03/06/2009.

Accession Number: 20090309-0161.

Comment Date: 5 p.m. Eastern Time on Friday, March 27, 2009.

Docket Numbers: ER09-732-001.

Applicants: Windhorse Energy, Inc.

Description: Windhorse Energy, Inc submits amended Public Petition for Acceptance of Initial Tariff Waivers and Blanket Authority, and one portion of the Petition for Acceptance of Initial Tariff Waivers and Blanket Authority etc.

Filed Date: 03/06/2009.

Accession Number: 20090306-0076.

Comment Date: 5 p.m. Eastern Time on Friday, March 27, 2009.

Docket Numbers: ER09-770-001.

Applicants: Xcel Energy Operating Companies.

Description: Xcel Energy Operating Companies submits Errata to Form of Service Agreement for Reserve Sharing Energy Service.

Filed Date: 03/06/2009.

Accession Number: 20090309-0145.

Comment Date: 5 p.m. Eastern Time on Friday, March 27, 2009.

Docket Numbers: ER09-807-000.

Applicants: Midwest Independent Transmission System Operator, Inc.

Description: Midwest Independent Transmission System Operator, Inc. submits revisions to Schedule 16 and Schedule 17 of its Open Access Transmission, Energy and Operating Reserve Markets Tariff, FERC Electric Tariff, Fourth Revised Volume No 1.

Filed Date: 03/06/2009.

Accession Number: 20090309-0146.

Comment Date: 5 p.m. Eastern Time on Friday, March 27, 2009.

Docket Numbers: ER09-808-000.

Applicants: Reliant Energy Power Supply, LLC.

Description: Reliant Energy Power Supply, LLC submits a Notice of Cancellation of their FERC Electric Tariff, Original Volume 1.

Filed Date: 03/06/2009.

Accession Number: 20090309-0147.

Comment Date: 5 p.m. Eastern Time on Friday, March 27, 2009.

Docket Numbers: ER09-809-000.

Applicants: Kentucky Utilities Company.

Description: Kentucky Utilities submits amendment to a contract between KU and the City Utility Commission of City of Owensboro.

Filed Date: 03/06/2009.

Accession Number: 20090309-0148.

Comment Date: 5 p.m. Eastern Time on Friday, March 27, 2009.

Docket Numbers: ER09-810-000.

Applicants: Kentucky Utilities Company.

Description: Kentucky Utilities submits amendment to a contract between KU and the City of Paris under FERC Rate Schedule 301.

Filed Date: 03/06/2009.

Accession Number: 20090309-0149.

Comment Date: 5 p.m. Eastern Time on Friday, March 27, 2009.

Docket Numbers: ER09-811-000.

Applicants: Kentucky Utilities Company.

Description: Kentucky Utilities submits amendment to a contract between KU and the City of Bardstown under FERC Rate Schedule 302.

Filed Date: 03/06/2009.

Accession Number: 20090309-0150.

Comment Date: 5 p.m. Eastern Time on Friday, March 27, 2009.

Docket Numbers: ER09-812-000.

Applicants: Kentucky Utilities Company.

Description: Kentucky Utilities submits amendment to a contract between KU and the City of Nicholasville under FERC Rate Schedule 303.

Filed Date: 03/06/2009.

Accession Number: 20090309-0152.

Comment Date: 5 p.m. Eastern Time on Friday, March 27, 2009.

Docket Numbers: ER09-813-000.

Applicants: Kentucky Utilities Company.

Description: Kentucky Utilities submits amendment to a contract between KU and the City of Barbourville under FERC Rate Schedule 304.

Filed Date: 03/06/2009.

Accession Number: 20090309-0151.

Comment Date: 5 p.m. Eastern Time on Friday, March 27, 2009.

Docket Numbers: ER09-814-000.

Applicants: Kentucky Utilities Company.

Description: Kentucky Utilities submits amendment to a contract between KU and the City of Providence under FERC Rate Schedule 305.

Filed Date: 03/06/2009.

Accession Number: 20090309-0153.

Comment Date: 5 p.m. Eastern Time on Friday, March 27, 2009.

Docket Numbers: ER09-815-000.

Applicants: Kentucky Utilities Company.

Description: Kentucky Utilities submits amendment to a contract between KU and the City of Madisonville under FERC Rate Schedule 306.

Filed Date: 03/06/2009.

Accession Number: 20090309-0156.

Comment Date: 5 p.m. Eastern Time on Friday, March 27, 2009.

Docket Numbers: ER09-816-000.

Applicants: Kentucky Utilities Company.

Description: Kentucky Utilities submits amendment to a contract between KU and the City of Bardwell under FERC Rate Schedule 307.

Filed Date: 03/06/2009.

Accession Number: 20090309-0154.

Comment Date: 5 p.m. Eastern Time on Friday, March 27, 2009.

Docket Numbers: ER09-817-000.

Applicants: Kentucky Utilities Company.

Description: Kentucky Utilities submits amendment to a contract between KU and the City of Benham under FERC Rate Schedule 308.

Filed Date: 03/06/2009.

Accession Number: 20090309-0155.

Comment Date: 5 p.m. Eastern Time on Friday, March 27, 2009.

Docket Numbers: ER09-818-000.

Applicants: Kentucky Utilities Company.

Description: Kentucky Utilities submits amendment to a contract between KU and the City of Corbin under FERC Rate Schedule 309.

Filed Date: 03/06/2009.

Accession Number: 20090309-0157.

Comment Date: 5 p.m. Eastern Time on Friday, March 27, 2009.

Docket Numbers: ER09-819-000.

Applicants: Kentucky Utilities Company.

Description: Kentucky Utilities submits amendment to a contract between KU and the City of Falmouth under FERC Rate Schedule 310.

Filed Date: 03/06/2009.

Accession Number: 20090309-0159.

Comment Date: 5 p.m. Eastern Time on Friday, March 27, 2009.

Docket Numbers: ER09-820-000.

Applicants: Kentucky Utilities Company.

Description: Kentucky Utilities submits amendment to a contract between KU and the Frankfort City Electric and Water Plant Board of City of Frankfort under FERC Rate Schedule 311.

Filed Date: 03/06/2009.

Accession Number: 20090309-0158.

Comment Date: 5 p.m. Eastern Time on Friday, March 27, 2009.

Docket Numbers: ER09-821-000.

Applicants: American Electric Power Service Corporation.

Description: AEP Texas North Company submits revised sheets of the Interconnection Agreement with Brazos Electric Power Coop, Inc.

Filed Date: 03/06/2009.

Accession Number: 20090310-0007.

Comment Date: 5 p.m. Eastern Time on Friday, March 27, 2009.

Docket Numbers: ER09-822-000.

Applicants: Reliant Energy Solutions Northeast, LLC.

Description: Reliant Energy Solutions Northeast, LLC submits its Notice of Cancellation of its market based rate tariff designated as FERC Electric Tariff, Original Volume 1.

Filed Date: 03/06/2009.

Accession Number: 20090310-0006.

Comment Date: 5 p.m. Eastern Time on Friday, March 27, 2009.

Docket Numbers: ER09-823-000.

Applicants: MidAmerican Energy Company.

Description: MidAmerican Energy Company submits unexecuted Large Generator Interconnection Agreement between itself and Clipper Windpower.

Filed Date: 03/09/2009.

Accession Number: 20090310-0072.

Comment Date: 5 p.m. Eastern Time on Monday, March 30, 2009.

Docket Numbers: ER09-824-000.

Applicants: California Independent System Operator Corporation.

Description: California Independent System Operator Corporation submits Transmission Access Charge Informational Filing.

Filed Date: 03/09/2009.

Accession Number: 20090310-0079.

Comment Date: 5 p.m. Eastern Time on Monday, March 30, 2009.

Docket Numbers: ER09-825-000.

Applicants: PSEG Energy Resources & Trade LLC.

Description: PSEG Energy Resources & Trade LLC submits revised tariff sheets in conformance with Order No 614.

Filed Date: 03/09/2009.

Accession Number: 20090310-0075.

Comment Date: 5 p.m. Eastern Time on Monday, March 30, 2009.

Take notice that the Commission received the following electric securities filings:

Docket Numbers: ES09-22-000.

Applicants: NorthWestern Corporation.

Description: Application of Northwestern Corporation for Authorization Under Section 204 of the Federal Power Act.

Filed Date: 03/06/2009.

Accession Number: 20090306-5074.

Comment Date: 5 p.m. Eastern Time on Friday, March 27, 2009.

Take notice that the Commission received the following open access transmission tariff filings:

Docket Numbers: OA07-44-005.

Applicants: El Paso Electric Company.

Description: El Paso Electric Company Annual Report on Penalty Assessments and Distributions under Order No. 890.

Filed Date: 03/10/2009.

Accession Number: 20090310-5081.

Comment Date: 5 p.m. Eastern Time on Tuesday, March 31, 2009.

Docket Numbers: OA08-17-002.

Applicants: WSPP Inc.

Description: WSPP Inc submits revisions to its Open Access Transmission Tariff.

Filed Date: 03/09/2009.

Accession Number: 20090310-0070.

Comment Date: 5 p.m. Eastern Time on Monday, March 30, 2009.

Take notice that the Commission received the following public utility holding company filings:

Docket Numbers: PH09-16-000.

Applicants: Puget Holdings LLC.

Description: Waiver Notification of Puget Holdings LLC.

Filed Date: 03/09/2009.

Accession Number: 20090309-5146.

Comment Date: 5 p.m. Eastern Time on Monday, March 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-6951 Filed 3-27-09; 8:45 am]

BILLING CODE 6717-01-P